ADVISORY COUNCIL ON HISTORIC PRESERVATION

Notice of Availability of “Advisory Guidelines Implementing Executive Order 13287, ‘Preserve America,’ Section 3: Improving Federal Agency Planning and Accountability” Authority: E.O. 13287

AGENCY: Advisory Council on Historic Preservation.

Notice of availability of advisory guidelines.

Summary: The Advisory Council on Historic Preservation (ACHP) is notifying Federal agencies of the availability of advisory guidelines, prepared in October 2003, to assist Federal agencies with real property management responsibilities in preparing the assessments and reports outlined in Executive Order 13287. Agencies are encouraged to use the advisory guidelines as a template to ensure that adequate, complete, and useful information is submitted to the ACHP. The ACHP will use the agency's information to prepare its report for the President on the state of the Federal Government's historic properties and their contribution to local economic development.

DATES: Federal agencies with real property management responsibilities must submit the initial Executive Order 13287, Section 3, Report to the ACHP and the Secretary of the Interior on or before September 30, 2004. Federal agencies with real property manageament responsibilities must submit the subsequent Executive Order 13287, Section 3, progress reports to the ACHP and the Secretary of the Interior on or before September 30, 2005, and every third year thereafter.

ADDRESSES: Mail all reports to the Executive Director, Advisory Council on Historic Preservation, 1100 Pennsylvania Ave., NW., Suite 809, Washington, DC 20004. Also submit the reports electronically to achp@achp.gov, and include “E.O. 13287 Report” in the subject line.

FOR FURTHER INFORMATION CONTACT: Charlene Vaughn, Advisory Council on Historic Preservation, 1100 Pennsylvania Avenue, NW., Suite 809, Washington, DC 20004. (202) 606-8505.

SUPPLEMENTARY INFORMATION: A copy of the guidelines may be obtained through the Internet at http:\www.achp.gov\PA-EOguidelines.html. A hard copy may also be obtained by contacting Charlene Vaughn (see FOR FURTHER INFORMATION CONTACT, above).

Dated: November 13, 2003.
John M. Fowler,
Executive Director.

[FR Doc. 03-28882 Filed 11-18-03; 8:45 am]

BILLING CODE 4310-10-M